DEPARTMENT OF THE INTERIOR

National Park Service

[NPS-WASO-PCE-COR-21667; PPWOPCADT0, PPMPSPD1T.Y00000 (166)]

Proposed Information Collection; National Park Service National Recreation Trails and National Water Trails System Applications

AGENCY: National Park Service, Interior.

ACTION: Notice; request for comments.

SUMMARY: We (National Park Service, NPS) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: Please submit your comment on or before October 7, 2016.

ADDRESSES: Please send your comments on the ICR to Madonna L. Baucum, Information Collection Clearance Officer, National Park Service, 12201 Sunrise Valley Drive, Mail Stop 242, Reston, VA 20192 (mail); or madonna_baucum@nps.gov (email). Please reference “1024-New NRT NWTS” in the subject line.

FOR FURTHER INFORMATION CONTACT: For National Recreation Trails, contact Helen Scully, National Trails System Program Specialist/National Recreation Trails Coordinator for the Department of the Interior; 1849 C Street NW., Org Code 2220, Washington, DC 20240; helen_scully@nps.gov (email); (202) 354-6910 (phone); or (202) 371-5179 (fax). For National Water Trails, contact Corita Waters, NPS Rivers, Trails, and Conservation Assistance Program; 1849 C Street NW., Org Code 2220, Washington, DC 20240; corita_waters@nps.gov (email); (202) 354-6908 (phone); or (202) 371-5179 (fax).

SUPPLEMENTARY INFORMATION:

I. Abstract

The purpose of this information collection is to assist the NPS in submitting suitable trails or trail systems to the Secretary of the Interior for designation as National Recreation Trails (NRTs), and in recommending exemplary water trails to the Secretary of the Interior for designation as National Water Trails (NWTs) to be included in the National Water Trails System (NWTS). The information collected will be used by the NPS, U.S. Fish and Wildlife Service, U.S. Bureau of Land Management, U.S. Bureau of Reclamation, and U.S. Army Corps of Engineers to evaluate the applications for adherence to NRT requirements and criteria and for NWTs, to determine if additional best management practices have been met.

The NPS administers the NRT program by authority of section 4 of the National Trails System Act (16 U.S.C. 1243). Secretarial Order No. 3319 established National Water Trails as a class of National Recreation Trails and directed that such trails collectively be considered in a National Water Trail System.

Designation as a NRT provides national recognition to local and regional trails or trail systems, acknowledging local and state efforts to build and maintain viable trails and trail systems. This recognition function is shared by the Secretary of Agriculture (for trails on National Forest lands and waters) and the Secretary of the Interior (for all other trails). The Secretary of the Interior has delegated NRT coordination to the NPS, which also maintains the system of record for the almost 1,300 NRTs and the 21 NWTs designated to date.

The NWTS focuses on building a national network of exceptional water trails sustainable by an ever growing and vibrant water trail community. The NWTS connects Americans to the nation's waterways and strengthens the conservation and restoration of those waterways. Best management practices provide high quality water-based outdoor recreational opportunities.

II. Data

OMB Control Number: 1024-New.

Title: National Park Service National Recreation Trails and National Water Trails System Application Process.

Form(s): Form 10-1002 Application for Designation as National Water Trail System and Form 10-1003 Application for Designation as National Recreation Trail.

Type of Request: Existing collection in use without approval.

Description of Respondents: Private individuals; businesses; educational institutions; nonprofit organizations; state, tribal, and local governments; and Federal agency land units.

Respondent's Obligation: Required to obtain or retain benefits.

Frequency of Collection: On occasion.

Activity | Estimated total annual responses | Estimated average completion time (hours) | Estimated total annual burden hours
Form 10-1002, NRT Application | 13 | 8 | 104
Form 10-1003, NWTS Application | 5 | 11 | 55
Totals | 18 |  | 159

Estimated Annual Reporting and Recordkeeping “Non-Hour Cost”: None.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: August 2, 2016.
Madonna L. Baucum,
Information Collection Clearance Officer, National Park Service.

[FR Doc. 2016-18741 Filed 8-5-16; 8:45 am]

BILLING CODE 4310-EH-P